DEPARTMENT OF ENERGY

Federal Energy Regulatory Commission

[Docket No. CP04-30-000]

Transcontinental Gas Pipe Line Corporation; Notice of Application

December 18, 2003.

Take notice that on December 12, 2003, Transcontinental Gas Pipe Line Corporation (Transco), P.O. Box 1396, Houston, Texas 77251, filed an application in Docket No. CP04-30-000 pursuant to section 7(c) of the Natural Gas Act (NGA) and Part 157(A) of the Federal Energy Regulatory Commission's Regulations (Commission), for a certificate of public convenience and necessity authorizing Transco's construction and operation of certain facilities at Compressor Station No. 140 (Station 140) in Spartanburg County, South Carolina to comply with the Clean Air Act Amendments of 1990, all as more fully set forth in the application which is on file with the Commission and open to public inspection.

Any questions regarding this application should be directed to David LaGroue, P.O. Box 1396, Houston, Texas 77251-1396, (713) 215-2721.

Any person desiring to be heard or to protest said filing should file a motion to intervene or a protest with the Federal Energy Regulatory Commission, 888 First Street, NE., Washington, DC 20426, in accordance with sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Comment Date: January 9, 2004.

Magalie R. Salas,
Secretary.

[FR Doc. E3-00634 Filed 12-24-03; 8:45 am]

BILLING CODE 6717-01-P